DEPARTMENT OF ENERGY

Federal Energy Regulatory Commission

[Project No. 3562-026]

KEI (Maine) Power Management (III) LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 3562-026.

c. Date filed: July 29, 2021.

d. Applicant: KEI (Maine) Power Management (III) LLC (KEI Power).

e. Name of Project: Barker Mill Upper Hydroelectric Project.

f. Location: On the Little Androscoggin River, in the City of Auburn, Androscoggin County, Maine. The project does not occupy any federal land.

g. Filed Pursuant to: Federal Power Act 16 U.S.C. 791(a)-825(r).

h. Applicant Contact: Lewis C. Loon, General Manager, KEI (USA) Power Management Inc., 423 Brunswick Avenue, Gardiner, ME 04345; phone at (207) 203-3025; email at LewisC.Loon@krueger.com.

i. FERC Contact: John Matkowski at (202) 502-8576, or john.matkowski@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 27, 2021.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Barker Mill Upper Project (P-3562-026).

m. The application is not ready for environmental analysis at this time.

n. Project Description: The existing Barker Mill Upper Project consists of: (1) A 41-acre impoundment with a maximum storage capacity of 255 acre-feet at a normal maximum water surface elevation of 192 feet NAVD 88; (2) a dam consisting of (starting from the west bank): (a) 43-foot-long concrete abutment; (b) a 40-foot-long gated spillway structure consisting of two, 18-foot high, 15-foot-wide steel Tainter gates; (c) an 86-foot-long, 24-foot-high stone masonry with concrete overlay overflow spillway with 3-foot-high wooden flashboards and a crest elevation of 192 feet NAVD 88 at the top of the flashboards (189 feet NAVD 88 when the flashboards are lowered); (d) a 31-foot-long concrete intake structure; and, (e) a 27-foot-long underground abutment; (3) a powerhouse containing a single 950-killowatt turbine-generator unit; (4) a tailrace; (5) a 50-foot-long, 12.47-kilovolt transmission line; and (10) appurtenant facilities.

The Barker Mill Upper Project is operated in run-of-river mode. The average annual generation is estimated to be of 4,681 megawatt-hours.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-3562). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural schedule: The application will be processed according to the following preliminary schedule. Revisions to the schedule will be made as appropriate.

Issue Deficiency Letter (if necessary)—September 2021

Request Additional Information (if needed)—September 2021

Issue Notice of Acceptance—December 2021

Issue Scoping Document 1 for comments—January 2022

Issue Scoping Document 2—March 2022

Issue Notice of Ready for Environmental Analysis—March 2022

q. Final amendments to the application must be filed with the Commission no later than 30 days from the issuance date of the notice of ready for environmental analysis.

Dated: August 12, 2021.
Kimberly D. Bose,
Secretary.

[FR Doc. 2021-17701 Filed 8-17-21; 8:45 am]

BILLING CODE 6717-01-P